DEPARTMENT OF AGRICULTURE

Animal and Plant Health Inspection Service

7 CFR Parts 305 and 319

[Docket No. 98-030-2]

RIN 0579-AA97

Irradiation Phytosanitary Treatment of Imported Fruits and Vegetables

AGENCY: Animal and Plant Health Inspection Service, USDA.

ACTION: Notice of reopening and extension of comment period.

SUMMARY: We are reopening and extending the comment period for our proposed rule that would establish regulations providing for use of irradiation as a phytosanitary treatment for fruits and vegetables imported into the United States. This action will allow interested persons additional time to prepare and submit comments.

DATES: We invite you to comment on Docket No. 98-030-1. We will consider all comments that we receive by August 21, 2000.

ADDRESSES: Please send your comment and three copies to: Docket No. 98-030-1, Regulatory Analysis and Development, PPD, APHIS, Suite 3C03, 4700 River Road, Unit 118, Riverdale, MD 20737-1238.

Please state that your comment refers to Docket No. 98-030-1.

You may also file comments on this docket electronically, and review comments filed electronically, at the World Wide Web site http://comments.aphis.usda.gov.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For general program and phytosanitary issues, contact Donna L. West, Import Specialist, Phytosanitary Issues Management, PPQ, APHIS, 4700 River Road Unit 140, Riverdale MD 20737-1236; (301) 734-6799. For technical irradiation issues, contact Dr. Arnold Foudin, Assistant Director, Scientific Services, PPQ, APHIS, 4700 River Road Unit 147, Riverdale, MD 20737-1237; (301) 734-7710.

SUPPLEMENTARY INFORMATION:

Background

On May 26, 2000, we published in the Federal Register (65 FR 34113-34125, Docket No. 98-030-1) a proposal to establish regulations providing for use of irradiation as a phytosanitary treatment for fruits and vegetables imported into the United States. The irradiation treatment would provide protection against fruit flies and the mango seed weevil. This proposal would provide an alternative to the currently approved treatments (various fumigation, cold, and heat treatments, and systems approaches employing techniques such as greenhouse growing) against fruit flies and the mango seed weevil in fruits and vegetables.

Comments on the proposed rule were required to be received on or before July 25, 2000. Several commenters have requested that we extend the comment period on Docket No. 98-030-1 to allow additional time for members of the public to review the proposed rule and to submit comments. While we believe that the original comment period allowed sufficient time for public review, there was a temporary malfunction in the E-Comments Web application (http://comments.aphis.usda.gov) established to receive electronically submitted comments on this proposed rule. This prevented the application from accepting comments over a period of approximately 10 days. To compensate for this disruption of service, we are reopening and extending the comment period on Docket No. 98-030-1 until August 21, 2000. This action will allow interested persons additional time to prepare and submit comments.

Done at Washington, DC, this 27th day of July 2000 .
Bobby R. Acord,
Acting Administrator, Animal and Plant Health Inspection Service.

[FR Doc. 00-19724 Filed 8-3-00; 8:45 am]

BILLING CODE 3410-34-U